Proclamation 10755 of May 10, 2024

Peace Officers Memorial Day and Police Week, 2024

By the President of the United States of America

A Proclamation

Every day, police officers pin on their shields and walk out the door, rushing into harm's way to keep the rest of us safe. Being a police officer is more than what they do—it is who they are. On Peace Officers Memorial Day and during Police Week, we recognize the incredible courage of our Nation's police officers and honor the fallen heroes, whose ultimate sacrifice we can never repay.

During the pandemic, States and cities saw violent crime rising as they faced deep cuts in law enforcement and public safety budgets. That is why the American Rescue Plan, one of the first bills I signed as President, provided $350 billion that States could use to keep law enforcement on the beat and communities safe from violence. That led to the largest Federal investment in public safety in our history. Police departments used that funding to establish training facilities, hire more officers, and raise salaries. I also expanded benefits for first responders disabled in the line of duty and for their families. I increased access to mental health resources for police officers, who too often experience emotional and physical trauma on the job. Supporting our police officers with resources they need to do their jobs has paid off. Last year, the United States had one of the lowest rates of violent crime in more than 50 years.

My Administration recognizes that being a police officer is harder than ever. We expect them to be everything to everyone—counselors to people experiencing a crisis, social workers to kids who have been abandoned, and guardians to communities flooded with weapons of war. That is why we have invested in more crisis responders who work alongside police officers to respond to non-violent crimes. We have also increased investments in recruiting, retaining, and training officers and in violence prevention to get guns off the streets. We are working hard to strengthen the bonds of trust between officers and the people they serve. My Budget requests over $10 billion to recruit, train, support, and hire 100,000 additional police officers trained in effective, accountable community policing—working hand in hand with community leaders and local partners to gain trust and advance public safety.

My Administration has also taken historic action to end the scourge of gun violence in America, which puts far too many police officers at risk. To date, my Administration has taken more executive actions to stop the flow of illegal guns than any other administration in history. I formed the first-ever White House Office of Gun Violence Prevention, overseen by Vice President Harris. I signed the most significant gun safety law in nearly 30 years. I appointed the first Bureau of Alcohol, Tobacco, Firearms and Explosives (ATF) Director to lead the agency in over 7 years, who has since led efforts to crack down on gun trafficking, ghost guns, rogue gun dealers, and unlicensed sellers that fuel the flow of illegal firearms. I continue to call on the Congress to ban assault weapons and high-capacity magazines, require safe storage of guns, fully fund ATF, and pass universal background checks and a national red flag law.

This year, we also honor our Nation's law enforcement families, who serve and sacrifice alongside their loved ones. Every day, they summon courage as their loved ones put on their badges and leave for work, praying for their safe return home. To those who have lost a loved one who served, I know that no memorial can fill the void left in your heart. But I hope you find solace in knowing that their memory lives on through you, the community they served, and all those that they inspired through their example. Our Nation will never forget their sacrifice.

Last year, I bestowed six law enforcement officers with the Medal of Valor for going to unimaginable lengths to protect their fellow citizens. They exemplified a selflessness of character and a bravery that inspires. On Peace Officers Memorial Day and during Police Week, let us show our gratitude for all the women and men of our Nation's law enforcement community, who make extraordinary sacrifices every day. Let us honor the memory of those who have fallen in service to their fellow Americans. Let us recommit to supporting the people in uniform and their families, who ensure the safety of our communities all across the Nation.

By a joint resolution approved October 1, 1962, as amended (76 Stat. 676), and by Public Law 103-322, as amended (36 U.S.C. 136-137), the President has been authorized and requested to designate May 15 of each year as “Peace Officers Memorial Day” and the week in which it falls as “Police Week.”

NOW, THEREFORE, I, JOSEPH R. BIDEN JR., President of the United States of America, do hereby proclaim May 15, 2024, as Peace Officers Memorial Day and May 12 through May 18, 2024, as Police Week. I call upon all Americans to observe these events with appropriate ceremonies and activities and salute our Nation's brave law enforcement officers and remember their peace officer brothers and sisters who have given their last full measure of devotion in the line of duty. I also call on the Governors of the United States and its Territories, and appropriate officials of all units of government, to direct that the flag be flown at half-staff on Peace Officers Memorial Day. I further encourage all Americans to display the flag at half-staff from their homes and businesses on that day.

IN WITNESS WHEREOF, I have hereunto set my hand this tenth day of May, in the year of our Lord two thousand twenty-four, and of the Independence of the United States of America the two hundred and forty-eighth.

[FR Doc. 2024-10764

Filed 5-14-24; 8:45 am]

Billing code 3395-F4-P